CORPORATION FOR NATIONAL AND COMMUNITY SERVICE

Agency Information Collection Activities; Submission to the Office of Management and Budget for Review and Approval; Comment Request; Disaster Response Cooperative Agreements

AGENCY: Corporation for National and Community Service.

ACTION: Notice.

SUMMARY: The Corporation for National and Community Service (CNCS) has submitted a public information collection request (ICR) entitled Disaster Response Cooperative Agreements for review and approval in accordance with the Paperwork Reduction Act of 1995.

DATES: Comments may be submitted, identified by the title of the information collection activity, by January 4, 2018.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Chad Stover at 202-606-6925 or email to cstover@cns.gov. Individuals who use a telecommunications device for the deaf (TTY-TDD) may call 1-800-833-3722 between 8:00 a.m. and 8:00 p.m. Eastern Time, Monday through Friday.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on July 13, 2017 at Vol. 82 Page 32346. This comment period ended September 11, 2017. No public comments were received from this notice.

Description: CNCS seeks to renew the current information collection. The information collection will be used in the same manner as the existing application. CNCS also seeks to continue using the current application until the revised application is approved by OMB. The current application is due to expire on December 31, 2017.

Type of Review: Renewal.

Agency: Corporation for National and Community Service.

Title: Disaster Response Cooperative Agreement (DRCA).

OMB Number: 3045-0133.

Agency Number: None.

Affected Public: Current grantees and CNCS-supported programs.

Total Respondents: 20.

Frequency: Once a year.

Average Time per Response: Averages two hours.

Dated: November 30, 2017.
Jennifer Murphy,
Lead Disaster Service Specialist, Disaster Services Unit.

[FR Doc. 2017-26186 Filed 12-4-17; 8:45 am]

BILLING CODE 6050-28-P